DEPARTMENT OF TRANSPORTATION

Federal Aviation Administration

14 CFR Part 39

[Docket No. 2001-NM-149-AD]

RIN 2120-AA64

Airworthiness Directives; McDonnell Douglas Model MD-90-30 Series Airplanes

AGENCY: Federal Aviation Administration, DOT.

ACTION: Proposed rule; withdrawal.

SUMMARY: This action withdraws a notice of proposed rulemaking (NPRM) that proposed a new airworthiness directive (AD), applicable to certain McDonnell Douglas Model MD-90-30 series airplanes. That action would have required an inspection of the aft galley power feeder wire assembly for riding, chafing, and damage located above the main cabin, left side, overwing ceiling panels; and follow-on actions. Since the issuance of that NPRM, the FAA has reviewed and approved a McDonnell Douglas service bulletin which describes procedures for modification of the installation of the aft galley power feeder wire assembly. The FAA has issued a new NPRM which combines the proposed requirements to inspect the aft galley power feeder wire assembly and perform follow-on actions with new proposed requirements to modify the installation of the galley power feeder wire assembly. Accordingly, the previous NPRM is being withdrawn.

FOR FURTHER INFORMATION CONTACT: George Y. Mabuni, Aerospace Engineer, Systems and Equipment Branch, ANM-130L, FAA, Los Angeles Aircraft Certification Office, 3960 Paramount Boulevard, Lakewood, California 90712-4137; telephone (562) 627-5341; fax (562) 627-5210.

SUPPLEMENTARY INFORMATION: A proposal to amend part 39 of the Federal Aviation Regulations (14 CFR part 39) to add a new airworthiness directive (AD), applicable to certain McDonnell Douglas Model MD-90-30 series airplanes, was published in the Federal Register as a Notice of Proposed Rulemaking (NPRM) on August 31, 2001 (66 FR 45948). The proposed rule would have required an inspection of the aft galley power feeder wire assembly for riding, chafing, and damage located above the main cabin, left side, overwing ceiling panels; and follow-on actions. The proposed actions were intended to prevent damage to the electrical wire insulation of the aft galley power feeder wires, electrical arcing, and potential smoke and/or fire.

Actions That Occurred Since the NPRM Was Issued

The FAA has reviewed and approved McDonnell Douglas Alert Service Bulletin MD90-24A047, Revision 01, dated July 31, 2000, which describes procedures for modification of the installation of the galley power feeder cable. The modification involves installing two standoffs on frames at stations Y=924.000 and Y=943.000 and rerouting wire assemblies and relocating the wire assembly clamps from the ceiling support structure to the new standoffs. That service bulletin recommends that McDonnell Douglas Alert Service Bulletin MD90-24A046, Revision 02 (the applicable service information specified in NPRM Docket No. 2001-NM-149-AD), be accomplished prior to or concurrently with modification of the installation of the power feeder cable.

FAA's Conclusions

Upon consideration, the FAA has determined that it makes technical sense to combine the proposed action of NPRM Docket No. 2001-NM-149-AD with a new NPRM, Docket No. 2000-NM-197-AD, that proposes accomplishment of the previously described modification. Combining these actions would also provide a convenience for the operators and would not adversely affect safety. Accordingly, the proposed rule is hereby withdrawn.

Withdrawal of this NPRM constitutes only such action, and does not preclude the agency from issuing another action in the future, nor does it commit the agency to any course of action in the future.

Regulatory Impact

Since this action only withdraws a notice of proposed rulemaking, it is neither a proposed nor a final rule and therefore is not covered under Executive Order 12866, the Regulatory Flexibility Act, or DOT Regulatory Policies and Procedures (44 FR 11034, February 26, 1979).

List of Subjects in 14 CFR Part 39

Air transportation, Aircraft, Aviation safety, Safety.

The Withdrawal

Accordingly, the notice of proposed rulemaking, Docket 2001-NM-149-AD, published in the Federal Register on August 31, 2001 (66 FR 45948), is withdrawn.

Issued in Renton, Washington, on March 28, 2002.
Kalene C. Yanamura,
Acting Manager, Transport Airplane Directorate, Aircraft Certification Service.

[FR Doc. 02-8282 Filed 4-4-02; 8:45 am]

BILLING CODE 4910-13-P